OFFICE OF PERSONNEL MANAGEMENT

5 CFR Part 532

RIN 3206-AJ64

Prevailing Rate Systems; Redefinition of the Scranton-Wilkes-Barre, PA, Appropriated Fund Wage Area; Correction

AGENCY: Office of Personnel Management.

ACTION: Correction to final rule.

SUMMARY: The Office of Personnel Management inadvertently omitted a county from the area of application for the State of Pennsylvania in the Scranton-Wilkes-Barre Federal Wage System wage area. Columbia County should have been listed immediately following Carbon County. This document corrects this error.

EFFECTIVE DATE: February 5, 2003.

FOR FURTHER INFORMATION CONTACT: Mark A. Allen at (202) 606-2838; FAX at (202) 606-4264; or e-mail at maallen@opm.gov.

SUPPLEMENTARY INFORMATION: In rule FR Doc. 03-215 published on January 6, 2003 (68 FR 459) make the following corrections. On page 460, in the first column, correct appendix C to subpart B of part 532 by adding “Columbia” in between “Carbon” and “Lycoming” under the area of application for the State of Pennsylvania.

Office of Personnel Management.
Jacquline Carter,
Federal Regulations Liaison Officer.

[FR Doc. 03-9830 Filed 4-21-03; 8:45 am]

BILLING CODE 6325-39-M